DEPARTMENT OF COMMERCE

Foreign-Trade Zones Board

[B-75-2015]

Foreign-Trade Zone (FTZ) 76—Bridgeport, Connecticut; Authorization of Production Activity; MannKind Corporation, Subzone 76B (Inhalable Insulin), Danbury, Connecticut

On October 29, 2015, MannKind Corporation submitted a notification of proposed production activity to the Foreign-Trade Zones (FTZ) Board for its facilities within Subzone 76B, in Danbury, Connecticut.

The notification was processed in accordance with the regulations of the FTZ Board (15 CFR part 400), including notice in the Federal Register inviting public comment (80 FR 70751, November 16, 2015). The FTZ Board has determined that no further review of the activity is warranted at this time. The production activity described in the notification is authorized, subject to the FTZ Act and the Board's regulations, including Section 400.14.

Dated: February 26, 2016.
Andrew McGilvray,
Executive Secretary.

[FR Doc. 2016-04715 Filed 3-2-16; 8:45 am]

BILLING CODE 3510-DS-P